ENVIRONMENTAL PROTECTION AGENCY

[EPA-HQ-OPPT-2018-0448; FRL-12439-02-OCSPP]

Vinyl Chloride; Draft Scope of the Risk Evaluation Under the Toxic Substances Control Act (TSCA); Notice of Availability and Request for Comment; Reopening of Comment Period

AGENCY: Environmental Protection Agency (EPA).

ACTION: Notice; reopening of comment period.

SUMMARY: In the Federal Register of January 16, 2025, EPA announced the availability of and solicited public comment on the draft scope of the risk evaluation to be conducted under the Toxic Substances Control Act (TSCA) for vinyl chloride (ethene, chloro-; CASRN 75-01-4). This document extends/reopens the comment period, which is scheduled to end on March 3, 2025, for 30 days.

DATES: The comment period for the document published on January 16, 2025, at 90 FR 4738 (FRL-12439-01-OCSPP) is reopened. Comments must be received on or before April 2, 2025.

ADDRESSES: Submit your comments, identified by ID number EPA-HQ-OPPT-2018-0448, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information: Marcy Card, Existing Chemicals Risk Assessment Division (7403M), Office of Pollution Prevention and Toxics, Environmental Protection Agency, 1200 Pennsylvania Ave. NW, Washington, DC 20460-0001; telephone number: (202) 564-1202; email address: VinylChloride.TSCA@epa.gov.

For general information: The TSCA-Hotline, ABVI-Goodwill, 422 South Clinton Ave., Rochester, NY 14620; telephone number: (202) 554-1404; email address: TSCA-Hotline@epa.gov.

SUPPLEMENTARY INFORMATION: To give stakeholders additional time to review materials and prepare comments, EPA is hereby reopening the comment period established in the Federal Register document of January 16, 2025, at 90 FR 4738 (FRL-12439-01-OCSPP) for 30 days, from March 3, 2025, to April 2, 2025. More information on the action can be found in the Federal Register of January 16, 2025.

To submit comments or access the docket, please follow the detailed instructions provided under ADDRESSES. If you have questions, consult the technical person listed under FOR FURTHER INFORMATION CONTACT.

Authority: 15 U.S.C. 2601 et seq.

Dated: February 27, 2025.
Richard Keigwin,
Deputy Assistant Administrator, Office of Chemical Safety and Pollution Prevention.

[FR Doc. 2025-03531 Filed 3-4-25; 8:45 am]

BILLING CODE 6560-50-P